Title 3—

The President

Presidential Determination No. 2005-11 of December 10, 2004

Renewal of Trade Agreement with the Socialist Republic of Vietnam

Memorandum for the United States Trade Representative

Pursuant to my authority under subsection 405(b)(1)(B) of the Trade Act of 1974 (19 U.S.C. 2435(b)(1)(B)), I have determined that actual or foreseeable reductions in U.S. tariffs and nontariff barriers to trade resulting from multilateral negotiations are being satisfactorily reciprocated by the Socialist Republic of Vietnam. I have further found that a satisfactory balance of concessions in trade and services has been maintained during the life of the Agreement on Trade Relations between the United States of America and the Socialist Republic of Vietnam.

You are authorized and directed to publish this determination in the Federal Register.

B

THE WHITE HOUSE,

Washington, December 10, 2004.

[FR Doc. 04-28027

Filed 12-20-04; 9:22 am]

Billing code 3190-W5-P